DEPARTMENT OF COMMERCE

National Oceanic and Atmospheric Administration

[RTID 0648-XE411]

Research Track Assessment for Three Stocks of Yellowtail Flounder Including Cape Cod/Gulf of Maine, Southern New England/Mid-Atlantic, and Georges Bank

AGENCY: National Marine Fisheries Service (NMFS), National Oceanic and Atmospheric Administration (NOAA), Commerce.

ACTION: Notice of public meeting.

SUMMARY: NMFS will convene the Research Track Assessment Peer Review Meeting for the purpose of reviewing Cape Cod/Gulf of Maine (CCGOM), Southern New England/Mid-Atlantic (SNEMA), and Georges Bank (GB) stocks of Yellowtail flounder. The Research Track Assessment Peer Review is a formal scientific peer-review process for evaluating and presenting stock assessment results to managers for fish stocks in the offshore U.S. and Canadian waters of the northwest Atlantic. Assessments are prepared by the research track working group and reviewed by an independent panel of stock assessment experts from the Center of Independent Experts (CIE). The public is invited to attend the presentations and discussions between the review panel and the scientists who have participated in the stock assessment process.

DATES: The public portion of the Research Track Assessment Peer Review Meeting will be held from November 18, 2024-November 22, 2024. The meeting will conclude on November 22, 2024 at 5 p.m. Eastern Standard Time. Please see SUPPLEMENTARY INFORMATION for the daily meeting agenda.

ADDRESSES: The meeting will be held in the Clark Conference Room at the Northeast Fisheries Science Center Aquarium Building: 166 Water Street, Woods Hole, MA 02543; and via Google Meet:

Google Meet joining info: https://meet.google.com/fdr-vztn-jxd Or dial: (US) +1 443-892-2999

PIN: 475 421 044#

FOR FURTHER INFORMATION CONTACT: Kristan Blackhart, (206) 289-0383; kristan.blackhart@noaa.gov.

SUPPLEMENTARY INFORMATION: For further information, please visit the Northeast Fisheries Science Center (NEFSC) website at https://www.fisheries.noaa.gov/new-england-mid-atlantic/population-assessments/fishery-stock-assessments-new-england-and-mid-atlantic. For additional information about research track assessment peer review, please visit the NEFSC web page at https://www.fisheries.noaa.gov/new-england-mid-atlantic/population-assessments/research-track-stock-assessments.

Daily Meeting Agenda—Research Track Peer Review Meeting

The agenda is subject to change; all times are approximate and may be changed at the discretion of the Peer Review Chair.

Monday, November 18, 2024

Time | Topic | Presenter(s) | Notes
10 a.m.-10:15 a.m. | Welcome/Logistics | Blackhart, Chen |
10:15 a.m.-10:45 a.m. | Research Track (RT) Overview | Adams |
10:45 a.m.-12:15 p.m. | Terms of Reference (TOR) #1 | Cadrin | Ecosystem.
12:15 p.m.-1:15 p.m. | Lunch
1:15 p.m.-2:45 p.m. | TOR #2 | Alade, Hansell, Hodgdon | Catch.
2:45 p.m.-3 p.m. | Break
3 p.m.-3:15 p.m. | Public Comment | Public |
3:15 p.m.-3:45 p.m. | Discussion/Summary | Review Panel | Conclusions, Recommendations, and Final Wrap-up for TORs 1-2
3:45 p.m. | Adjourn

Tuesday, November 19, 2024

Time | Topic | Presenter(s) | Notes
10 a.m.-10:05 a.m. | Welcome/Logistics | To be determined (TBD), Chen |
10:05 a.m.-11:35 a.m. | TOR #3 | Alade, Hansell, Hodgdon | Survey Data.
11:35 a.m.-12:05 p.m. | Woods Hole Assessment Model (WHAM) Overview | Miller |
12:05 p.m.-1:05 p.m. | Lunch
1:05 p.m.-1:20 p.m. | Overview of approach for TORs #4-6 | Adams | All Stocks.
1:20 p.m.-3:20 p.m. | TORs #4-6 | Hodgdon | SNEMA: Models, Biological Reference Points (BRPs) and Projections.
3:20 p.m.-3:35 p.m. | Break
3:35 p.m.-3:50 p.m. | Public Comment | Public |
3:50 p.m.-4:20 p.m. | Discussion/Summary | Review Panel | Conclusions, Recommendations, and Final Wrap-up for TOR 3, SNEMA TORs 4-6.
4:20 p.m. | Adjourn

Wednesday, November 20, 2024

Time | Topic | Presenter(s) | Notes
10 a.m.-10:05 a.m. | Welcome/Logistics | TBD, Chen |
10:05 a.m.-12:05 p.m. | TORs #4-6 | Hansell | GB: Models, BRPs and Projections.
12:05 p.m.-1:05 p.m. | Lunch
1:05 p.m.-3:05 p.m. | TORs #4-6 | Alade | CCGOM: Models, BRPs and Projections.
3:05 p.m.-3:20 p.m. | Break
3:20 p.m.-3:35 p.m. | Public Comment | Public |
3:35 p.m.-4:05 p.m. | Discussion/Summary | Review Panel | Conclusions, Recommendations, and Final Wrap-up for GB & CCGOM TORs 4-6.
4:05 p.m. | Adjourn

Thursday, November 21, 2024

Time | Topic | Presenter(s) | Notes
10 a.m.-10:05 a.m. | Welcome/Logistics | TBD, Chen |
10:05 a.m.-11:35 a.m. | TOR #8 | Legault | All Stocks.
11:35 a.m.-12:05 p.m. | TOR #7 | Dolan |
12:05 p.m.-1:05 p.m. | Lunch
1:05 p.m.-2:05 p.m. | Wrap up TOR #7 | Dolan |
2:05 p.m.-2:20 p.m. | Public Comment | Public |
2:20 p.m.-2:50 p.m. | Discussion/Summary | Review Panel | Conclusions, Recommendations, and Final Wrap-up for TORs 7-8.
2:50 p.m.-3:05 p.m. | Break
3:05 p.m.-4 p.m. | Homework, if needed; else closed panel writing session | TBD |
4 p.m. | Adjourn

Friday, November 22, 2024

Time | Topic | Presenter(s) | Notes
10 a.m.-4 p.m. | Closed panel writing session | Review Panel | * If necessary, revisit any remaining issues via open session.
4 p.m. | Adjourn

The meeting is open to the public; however, the `Report Writing' session on Friday, November 22nd will be closed.

Special Accommodations

This meeting is physically accessible to people with disabilities. Special requests should be directed to Kristan Blackhart, via email.

Dated: October 21, 2024.
Karen H. Abrams,
Acting Director, Office of Sustainable Fisheries, National Marine Fisheries Service.

[FR Doc. 2024-24832 Filed 10-24-24; 8:45 am]

BILLING CODE 3510-22-P